DEPARTMENT OF THE TREASURY

Office of Foreign Assets Control

Sanctions Action Pursuant to Executive Order 13224

AGENCY: Office of Foreign Assets Control, Treasury.

ACTION: Notice.

SUMMARY: The Department of the Treasury's Office of Foreign Assets Control (OFAC) is publishing the name of 1 individual whose property and interests in property are blocked.

DATES: OFAC's action described in this notice was effective on March 14, 2017.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On March 14, 2017, OFAC blocked the property and interests in property of the following 1 individual pursuant to E.O. 13224, “Blocking Property and Prohibiting Transactions With Persons Who Commit, Threaten To Commit, or Support Terrorism”:

Individual

1. AL-'ANZI, Muhammad Hadi `Abd-al-Rahman Fayhan Sharban (a.k.a. AL-`ANIZI, Muhammad Hadi `Abd al-Rahman Fayhan Shariyan; a.k.a. AL-`ANIZI, Muhammad Hadi `Abd al-Rahman Fayhan Shiryan; a.k.a. AL-`ANIZI, Muhammad Hadi `Abd-al-Rahman Fihan Shiryan; a.k.a. AL-`ANZI, Muhammad Hadi `Abd al-Rahman Fayhan Shariyan; a.k.a. AL-`ANZI, Muhammad Hadi `Abd-al-Rahman Fayhan Sharyan; a.k.a. AL-ANIZI, Muhammad Hadi `Abd-al-Rahman Fayhan Sharyan; a.k.a. ALENEZI, Mohammad H A F; a.k.a. AL-SHAMMARI, Muhammad; a.k.a. “AL-KUWAITI, Abu Hudhayfa”; a.k.a. “HUDAYTH, Abu”; a.k.a. “HUDHAYFAH, Abu”), Kuwait; DOB 26 May 1986; nationality Kuwait; citizen Kuwait; Gender Male (individual) [SDGT] (Linked To: AL QA'IDA; Linked To: AL-NUSRAH FRONT).

Dated: March 14, 2017.
Andrea Gacki,
Acting Director, Office of Foreign Assets Control.

[FR Doc. 2017-05388 Filed 3-16-17; 8:45 am]

BILLING CODE 4810-AL-P